DEPARTMENT OF HEALTH AND HUMAN SERVICES

Centers for Medicare and Medicaid Services

[Document Identifier: CMS-10115]

Emergency Clearance: Public Information Collection Requirements Submitted to the Office of Management and Budget (OMB)

AGENCY: Center for Medicare and Medicaid Services, HHS.

In compliance with the requirement of section 3506(c)(2)(A) of the Paperwork Reduction Act of 1995, the Centers for Medicare and Medicaid Services (CMS), Department of Health and Human Services, submitted the following collection for emergency review and approval.

We requested an emergency review because the collection of this information is needed before the expiration of the normal time limits under OMB's regulations at 5 CFR part 1320. This is necessary to ensure compliance with provisions of section 1011 of the Medicare Prescription Drug, Improvement, and Modernization Act of 2003 (MMA). We cannot reasonably comply with the normal clearance procedures because of the statutory implementation date of September 1, 2004.

OMB evaluated the collection for necessity and utility of the proposed information collection for the proper performance of the agency's functions; the accuracy of the estimated burden; ways to enhance the quality, utility, and clarity of the information to be collected; and the use of automated collection techniques or other forms of information technology to minimize the information collection burden.

OMB approved the collection emergency review of the information collection referenced below on August 31, 2004. OMB approved CMS's request of this collection for a 180-day approval period.

Note: CMS will issue its payment methodology shortly.

Background

Section 1011 provides $250 million per year for fiscal years (FY) 2005-2008 for payments to eligible providers for emergency health services provided to undocumented aliens and other specified aliens. Two-thirds of the funds will be divided among all 50 States and the District of Columbia based on their relative percentages of undocumented aliens. One-third will be divided among the six States with the largest number of undocumented alien apprehensions.

From the respective State allotments, payments will be made directly to hospitals, certain physicians, and ambulance providers for some or all of the costs of providing emergency health care required under section 1867 and related hospital inpatient, outpatient and ambulance services to eligible individuals. Eligible providers may include an Indian Health Service facility whether operated by the Indian Health Service or by an Indian tribe or tribal organization. A Medicare critical access hospital (CAH) is also a hospital under the statutory definition. Payments under section 1011 may only be made to the extent that care was not otherwise reimbursed (through insurance or otherwise) for such services during that fiscal year.

Payments may be made for services furnished to certain individuals described in the statute as: (1) Undocumented aliens; (2) aliens who have been paroled into the United States at a port of entry for the purpose of receiving eligible services; and (3) Mexican citizens permitted to enter the United States for not more than 72 hours under the authority of a biometric machine readable border crossing identification card (also referred to as a “laser visa”) issued in accordance with the requirements of regulations prescribed under a specific section of the Immigration and Nationality Act.

Type of Information Collection Request: New collection; Title of Information Collection: Federal Funding of Emergency Health Services (Section 1011): Enrollment Application; Use: This enrollment application will: identify a provider's potential interest in seeking payment under section 1011, but does not require the hospital to seek that payment; will allow hospitals to make a payment election, as required by section 1011(c)(3)(C); allow CMS to obtain necessary financial information to effectuate payments and issue the appropriate tax information; establish the State of service for each provider; allow CMS to verify that the hospital, physician or provider of ambulance services is currently enrolled as a Medicare provider; require hospitals to notify physicians of its election under (c)(3)(C) of section 1011; require hospitals electing hospital and physician payments to provide reimbursement to physicians in a prompt manner; prohibit hospitals electing to receive both hospital and physician payments from charging an administrative or other fee to physicians for the purpose of transferring reimbursement to physicians (see section 1011(c)(3)(D)); establishes the provider's obligation to repay any assessed overpayment within 30 days of notification by CMS; and, informs a provider that applicable Federal laws apply to submission of false claims.

Form Number: CMS-10115 (OMB#: 0938—New); Frequency: Other: as needed; Affected Public: Business or other for-profit, Not-for-profit institutions, and State, local or tribal govt.; Number of Respondents: 62,500; Total Annual Responses: 62,500; Total Annual Hours: 31,250.

To obtain copies of the supporting statement and any related forms for the proposed paperwork collections referenced above, access CMS's Web site address at http://www.cms.hhs.gov/regulations/pra/, or e-mail your request, including your address, phone number, OMB number, and CMS document identifier, to Paperwork@cms.hhs.gov, or call the Reports Clearance Office on (410) 786-1326.

Dated: August 31, 2004.
John P. Burke, III,
Reports Clearance Officer, Office of Strategic Operations and Strategic Affairs, Division of Regulations Development and Issuances.

[FR Doc. 04-20242 Filed 9-1-04; 1:58 pm]

BILLING CODE 4120-03-P